DEPARTMENT OF COMMERCE

National Oceanic and Atmospheric Administration

[I.D. 051801A]

Mid-Atlantic Fishery Management Council (MAFMC); Public Meeting

AGENCY: National Marine Fisheries Service (NMFS), National Oceanic and Atmospheric Administration (NOAA), Commerce.

ACTION: Notice of public meeting.

SUMMARY: The Mid-Atlantic Fishery Management Council’s Atlantic Mackerel, Squid, and Butterfish Monitoring Committee will hold a public meeting.

DATES: The meeting will be held Tuesday, June 12, 2001, from 10 a.m.-4 p.m.

ADDRESSES: This meeting will be held at the Sheraton International Hotel at BWI Airport, 7032 Elm Road, Baltimore, MD; telephone: 410-859-3300.

Council Address: Mid-Atlantic Fishery Management Council, Room 2115, 300 S. New Street, Dover, DE 19904.

FOR FURTHER INFORMATION CONTACT: Daniel T. Furlong, Executive Director, Mid-Atlantic Fishery Management Council; telephone: 302-674-2331, ext. 19.

SUPPLEMENTARY INFORMATION: The purpose of the meeting is to develop 2002 quota recommendations for Atlantic mackerel, Loligo and Illex squid, and butterfish and consider possible in-season adjustments to the 2001 quota specifications.

Although non-emergency issues not contained in this agenda may come before the Council for discussion, these issues may not be the subject of formal Council action during this meeting. Council action will be restricted to those issues specifically listed in this notice and any issues arising after publication of this notice that require emergency action under section 305 (c) of the Magnuson-Stevens Fishery Conservation and Management Act, provided the public has been notified of the Council’s intent to take final actions to address such emergencies.

Special Accommodations

This meeting is physically accessible to people with disabilities. Requests for sign language interpretation or other auxiliary aids should be directed to Joanna Davis at 302-674-2331 at least 5 days prior to the meeting date.

Dated: May 18, 2001.
Richard W. Surdi,
Acting Director, Office of Sustainable Fisheries, National Marine Fisheries Service.

[FR Doc. 01-13077 Filed 5-23-01; 8:45 am]

BILLING CODE 3510-22-S